INTER-AMERICAN FOUNDATION

Agenda for Meeting of the Board of Directors; Sunshine Act

March 18, 2005; 12:30 p.m.-2 p.m.

The meeting was held via a conference call.

The meeting was closed as provided in 22 CFR 1004.4(f) to discuss matters related to the evaluation of candidates for the position of President of the Inter-American foundation.

12:30 p.m. Call to order; Begin executive session.

2 p.m. Adjourn.

Agenda for Meeting of the Board of Directors, March 28, 2005; 3 p.m.-4:30 p.m.

The meeting will be held via a conference call.

The meeting was closed as provided in 22 CFR 1004.4(f) to discuss matters related to the evaluation of candidates for the position of President of the Inter-American foundation.

3 p.m. Call to order; Begin executive session.

4:30 p.m. Adjourn.

Jocelyn Nieva,
Acting General Counsel.

[FR Doc. 05-6339 Filed 3-28-05; 10:00 am]

BILLING CODE 7025-01-M